FEDERAL COMMUNICATIONS COMMISSION

[CC Docket No. 92-237; DA 04-3830]

Cancellation of the December 10, 2004, Conference Call Meeting of the North American Numbering Council

AGENCY: Federal Communications Commission.

ACTION: Notice.

SUMMARY: On December 7, 2004, the Commission released a public notice announcing the cancellation of the December 10, 2004, conference call meeting of the North American Numbering Council (NANC). The intended effect of this action is to make the public aware of the cancellation of the NANC's conference call meeting. This notice of the cancellation of the December 10, 2004, NANC conference call meeting is being published in the Federal Register less than 15 calendar days prior to the previously scheduled conference call meeting to ensure that the public is made aware of the cancellation of the federal advisory committee's December 10, 2004, conference call meeting as soon as possible.

This statement complies with the General Services Administration Management regulations implementing the Federal Advisory Committee Act. See 41 CFR 101-6.1015(b)(2).

ADDRESSES: Telecommunications Access Policy Division, Wireline Competition Bureau, Federal Communications Commission, The Portals II, 445 12th Street, SW., Suite 5-A420, Washington, DC 20554.

FOR FURTHER INFORMATION CONTACT: Deborah Blue, Special Assistant to the Designated Federal Officer (DFO) at (202) 418-1466 or Deborah.Blue@fcc.gov. The fax number is: (202) 418-2345. The TTY number is: (202) 418-0484.

Federal Communications Commission.
Sanford S. Williams,
Attorney, Telecommunications Access Policy Division, Wireline Competition Bureau.

[FR Doc. 04-27280 Filed 12-8-04; 1:18 pm]

BILLING CODE 6712-01-P